DEPARTMENT OF TRANSPORTATION

Office of the Secretary

[Docket ID Number: DOT-OST-2010-0054]

Notice of Submission of Proposed Information Collection to OMB; Agency Request for Reinstatement of Previously Approved Collections: Nondiscrimination on the Basis of Disability in Air Travel: Reporting Requirements for Disability-Related Complaints

AGENCY: Office of the Secretary (OST), Department of Transportation (Department or DOT).

ACTION: Notice of submission to the Office of Management and Budget (OMB) and request for comments.

SUMMARY: In accordance with the Paperwork Reduction Act of 1995, as amended, the Department is forwarding the Information Collection Request (ICR) described below to OMB for review. DOT published a Federal Register notice with a 60-day comment period soliciting comments on the following collections of information on May 10, 2022 (87 FR 28101). DOT received two comments on the 60-day notice which are addressed below. DOT considered the comments and concluded that it will not make any changes to the information collections based on the comments before it submits the ICR to OMB for review. This notice is to allow the public an additional 30 days from the date of this notice to submit comments to the recently published application to reinstate OMB Control Number: 2105-0551, “Reporting Requirements for Disability-Related Complaints.”

DATES: Interested persons are invited to submit comments regarding this proposal. Written comments should be submitted by November 14, 2022.

ADDRESSES: Send comments to the Office of Management and Budget, Attention: Desk Officer for the Office of the Secretary of Transportation, 725 17th Street NW, Washington, DC 20503. Comments may also be sent via email to OMB at the following address: oira_submissions@omb.eop.gov.

FOR FURTHER INFORMATION CONTACT: John Wood, Office of Aviation Consumer Protection, U.S. Department of Transportation, 1200 New Jersey Avenue SE, Washington, DC 20590, Telephone Number (202) 366-9342 (voice), (202) 366-7152 (fax), john.wood@dot.gov (email). Arrangements to receive this document in an alternative format may be made by contacting the above-named individual.

SUPPLEMENTARY INFORMATION:

OMB Control Number: 2105-0551.

Title: Reporting Requirements for Disability-Related Complaints.

Type of Request: Reinstatement of information collections.

Background: The Department requires U.S. and foreign air carriers operating to, from and within the United States that conduct passenger-carrying service with at least one aircraft with a designed seating capacity of more than 60 passengers (large aircraft) to record complaints that they receive alleging inadequate accessibility or discrimination on the basis of disability. The carriers must also categorize these complaints according to the type of disability and nature of complaint, prepare a summary report annually of the complaints received during the preceding calendar year, submit the report to the Department's Office of Aviation Consumer Protection, and retain copies of correspondence and records of action taken on the reported complaints for three years. Carriers are also required to submit their annual report via the World Wide Web except if the carrier can demonstrate an undue burden by doing so and receives permission from the Department to submit it in an alternative manner. The first required report of disability-related complaints was due to the Department on January 31, 2005, and covered disability-related complaints received by carriers during calendar year 2004. Carriers have since submitted subsequent reports to the Department by the last Monday in January for the prior calendar year.

The Paperwork Reduction Act of 1995 (PRA) and its implementing regulations, 5 Code of Federal Regulations (CFR) part 1320, require Federal agencies to issue two notices seeking public comment on information collection activities before OMB may approve paperwork packages. On May 10, 2022, DOT published a 60-day notice in the Federal Register soliciting comment on the ICRs for which the agency seeks OMB approval. See 87 FR 28101. DOT received two comments after issuing this notice. One of the comments, filed by a member of the public, addressed modifications of the DOT air service complaint form which is covered under a different OMB control number than is addressed by this notice. The other comment, filed by Paralyzed Veterans of America (PVA), stated that the collection of information on disability-related complaints is necessary for the proper performance of DOT because DOT is responsible for enforcing the requirements of the Air Carrier Access Act. PVA noted that the collection of the information indicates which airlines receive the most complaints and what types of discrimination are occurring during air travel. PVA stated that without the collection and reporting of the complaints, airlines may not be held responsible for improper procedures, discrimination, and unlawful treatment of individuals with disabilities. In addition, PVA stated that the information collected by DOT is too generalized and ambiguous to provide passengers with disabilities information about which airlines provide the best experience for passengers with disabilities and appropriately to determine the issues that such passengers experience. PVA also stated that the current burden on airlines to collect and categorize the complaints can be alleviated by adding more descriptive options in their complaint forms for passengers to categorize the complaint. For example, PVA stated that airlines could use more specific check boxes or indicators for passengers to select and categorize the complaint. In addition, PVA stated that many online complaint forms are difficult for passengers to find, resulting in passengers calling the airline to file their complaint, and more burden on the airline.

DOT will consider the information provided by PVA for the purposes of informing future potential rulemaking activities that would be necessary to modify the requirements that apply to the airlines' collection and submission of disability-related complaint information under 14 CFR part 382. Therefore, DOT has concluded that it will not make any changes to the information collections based on the comments before submitting the ICR to OMB for review. However, DOT encourages reporting carriers to consider PVA's comments on methods to reduce burdens associated with categorizing complaints and to consider adopting burden reducing measures that are consistent with the regulatory requirements. The Department announces that these information collection activities have been re-evaluated and certified under 5 CFR 1320.5(a) and is forwarding to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44,983 (Aug. 29, 1995). Therefore, respondents should submit their respective comments to OMB within 30 days of publication to best ensure their full consideration. 5 CFR 1320.12(c); see also 60 FR 44,983 (Aug. 29, 1995).

For each information collection, the title, a description of the respondents, and an estimate of the annual recordkeeping and periodic reporting burden are set forth below.¹

¹ DOT did not use calendar year 2020 data for its estimates because airline operations were not representative of a typical year due to the unprecedented impact of COVID-19 on air transportation that year.

(1) Requirement to record and categorize complaints received.

Respondents: U.S. air carriers and foreign air carriers operating to and from the United States that conduct passenger-carrying service with at least one large aircraft.

Number of Respondents: 176 (the average of the total number of respondents that reported for Calendar Years (CYs) 2018, 2019, and 2021).

Estimated Annual Burden on Respondents: 0-2,431 hours (145,905 minutes) a year for each respondent (estimated time to record and categorize each complaint (15 minutes) multiplied by the lowest number of complaints and the average of the highest number of complaints received during CYs 2018, 2019, and 2021 (0-9,727)).

Estimated Total Annual Burden: 7,854 hours (471,255 minutes) for all respondents (time to record and categorize each complaint (15 minutes) multiplied by the average total number of complaints received during CYs 2018, 2019, and 2021 (31,417) for all respondents).

Frequency: 0-9,727 complaints (The range of the lowest number of complaints and an average of the highest number of complaints received by any respondent during CYs 2018, 2019, and 2021).

(2) Requirement to prepare and submit annual report.

Respondents: U.S. air carriers and foreign air carriers operating to and from the United States that conduct passenger-carrying service with at least one large aircraft.

Number of Respondents: 176 (the average of the total number of respondents that reported for CYs 2018, 2019, and 2021).

Estimated Annual Burden on Respondents: 30 minutes a year per each respondent.

Estimated Total Annual Burden: 88 hours (5,280 minutes) for all respondents (estimate annual burden [30 minutes] multiplied by the total number of respondents (176)).

Frequency: 1 report to DOT per year for each respondent.

(3) Requirement to retain correspondences and records of action taken on all disability-related complaints.

Respondents: U.S. air carriers and foreign air carriers operating to and from the United States that conduct passenger-carrying service with at least one large aircraft.

Number of Respondents: 176 (the average of the total number of respondents that reported for CYs 2018, 2019, and 2021).

Estimated Annual Burden on Respondents: 0-811 hours (0-48,635 minutes) for each respondent (the estimated time it will take for each respondent to retain or save the correspondences and records of action taken on disability-related complaints (5 minutes) multiplied by the lowest number of complaints and the average of the highest number of complaints received per respondent during CYs 2018, 2019, and 2021 (0-9,727)).

Estimated Total Annual Burden: 2,618 hours (157,085 minutes) for all respondents (time to retain or save the correspondences and records of action taken on disability-related complaints (5 minutes) multiplied by the average total number of complaints received during CYs 2018, 2019, and 2021 (31,417) for all respondents.

Frequency: 0-9,727 complaints per year for each respondent (The range of the lowest number of complaints and an average of the highest number of complaints received by any respondent during CYs 2018, 2019, and 2021).

Comments Invited

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents. All comments will also become a matter of public record on the docket.

Authority: The Paperwork Reduction Act of 1995; 44 U.S.C. chapter 35, as amended; and 59 CFR 1.48.

Signed in Washington, DC, on this 7th day of October 2022.
Livaughn Chapman Jr.,
Deputy Assistant General Counsel, Office of Aviation Consumer Protection.

[FR Doc. 2022-22282 Filed 10-12-22; 8:45 am]

BILLING CODE 4910-9X-P